DEPARTMENT OF LABOR

Employment and Training Administration

[TA-W-38,328]

Staples Business Advantage, Staples, Inc. Canton, MI; Notice of Termination of Investigation

Pursuant to Section 221 of the Trade Act of 1974, an investigation was initiated on November 20, 2000 in response to a worker petition which was filed on behalf of workers at Staples Business Advantage, Staples Inc., Canton, Michigan.

The petitioner has requested that the petition be withdrawn. Consequently, further investigation in this case would serve no purpose, and the investigation has been terminated.

Dated: Signed in Washington, DC this 18th day of December, 2000.
Linda G. Poole,
Certifying Officer, Division of Trade Adjustment Assistance.

[FR Doc. 00-33063 Filed 12-27-00; 8:45 am]

BILLING CODE 4510-30-M